EXPORT-IMPORT BANK

[Public Notice 84]

Agency Information Collection Activities: Proposed Collection; Comment Request

AGENCY: Export-Import Bank of the U.S.

ACTION: Notice of request for comments.

SUMMARY: The Export-Import Bank, as a part of its continuing effort to reduce paperwork and respondent burden, invites the general public and other Federal Agencies to comment on the proposed information collection, as required by the Paperwork Reduction Act of 1995. Our customers will be able to submit this form on paper or electronically. The form has been updated in the following ways:

• The application now accommodates requests for Finance Lease Guarantee coverage. Information on Lessees and Lessors is requested in those circumstances.

• The application accommodates requests for Foreign Dealer Insurance policies. A separate one-page attachment (Attachment IV) is required when the applicant requests this coverage.

• The format has been changed so that it accords with the on-line version of the form which will be made available later in 2006. Formatting changes include:

—The names of the applicant and broker have been moved up to the first item.

—Section 1 has been relabeled “General Questions” instead of “Financing Type Requested”.

—Requests for Special Coverages have been moved up in front of the Participants section.

• Information about a new participant, the agent, is now requested. Gathering this information helps Ex-Im Bank evaluate the creditworthiness of the transaction.

• Legal certifications have been updated.

DATES: Written comments should be received on or before June 6, 2006 to be assured consideration.

ADDRESSES: Direct all comments and requests for additional information to Angela Beckham, Export-Export Bank of the U.S., 811 Vermont Avenue, NW., Washington, DC 20571, (202) 565-3418.

SUPPLEMENTARY INFORMATION: Title and Form Number: Application for Medium-term Insurance or Guarantee, EIB-03-02.

OMB Number: 3048-0014.

Type of Review: Regular.

Need and Use: The information requested enables the applicant to provide Ex-Im Bank with the information necessary to obtain legislatively required assurance of repayment and fulfills other statutory requirements.

Affected Public: The form affects entities involved in the export of U.S. goods and services.

Estimated Annual Respondents: 800.

Estimated Time per Respondent: 1.5 hour.

Estimated Annual Burden: 1200 hours.

Frequency of Reporting or Use: As needed, each time an applicant seeks medium-term insurance or guarantee.

Dated: March 31, 2006.
Solomon Bush,
Agency Clearance Officer.

BILLING CODE 6690-01-M

[FR Doc. 06-3283 Filed 4-6-06; 8:45am]

BILLING CODE 6690-01-C